GENERAL SERVICES ADMINISTRATION

48 CFR Part 553

[GSAR Case 2021-G509; Docket No. 2021-0005; Sequence No. 1]

General Services Administration Acquisition Regulation; Removing Erroneous Guidance on Illustration of Forms

AGENCY: Office of Acquisition Policy, General Services Administration (GSA).

ACTION: Final rule.

SUMMARY: The General Services Administration (GSA) is issuing this direct final rule amending the General Services Administration Acquisition Regulation (GSAR) to make a needed technical amendment. This technical amendment is to correct the Code of Federal Regulations and remove erroneous guidance on the illustration of forms.

DATES: Effective: March 15, 2021.

FOR FURTHER INFORMATION CONTACT: Ms. Adina Torberntsson, Procurement Analyst, at gsarpolicy@gsa.gov for clarification of content. For information pertaining to status or publication schedules, contact the Regulatory Secretariat Division at 202-501-4755 or GSARegSec@gsa.gov. Please cite GSAR Case 2021-G509.

SUPPLEMENTARY INFORMATION:

I. Background

GSA has been conducting a regulatory review initiative to identify areas which might be revised or eliminated. Upon review of GSAR part 553, we uncovered a discrepancy between the Code of Federal Regulations (CFR) and acquisition.gov. The current language in subpart 553.2 in the CFR was published in the Federal Register, Vol. 64, No. 131, on July 9, 1999 and has not changed since. However, acquisition.gov has no such language. It is determined that all of the guidance in GSAR Part 553 in the CFR should be removed.

II. Discussion of the Rule

This direct final rule amends the GSAR to remove regulations regarding forms from subpart 553.2 and section 553.300. The subpart has no content, just the header of “Illustrations of Forms”. There is no prescription information that follows. In addition, text at 553.300 contains erroneous information on how to obtain copies of forms. Therefore, the entirety of GSAR Part 553 is unnecessary.

List of Subjects in 48 CFR Part 553

Government procurement.

Jeffrey A. Koses,
Senior Procurement Executive, Office of Acquisition Policy, Office of Governmentwide Policy, General Services Administration.

PART 553 [REMOVED AND RESERVED]

Therefore, under the authority of 41 U.S.C. 121(c), GSA removes and reserves 48 CFR part 553.

[FR Doc. 2021-02815 Filed 2-11-21; 8:45 am]

BILLING CODE 6820-61-P